DEPARTMENT OF COMMERCE

Bureau of Industry and Security

In the Matter of: Donald V. Bernardo, a/k/a Don Bernardo, 8930 Houston Ridge Road, Charlotte, NC 28277; Order

On December 6, 2013, the then-Acting Director of the Office of Exporter Services, Eileen M. Albanese, entered an Order ¹ denying Donald V. Bernardo (“Bernardo”) all U.S. export privileges until November 16, 2016, pursuant to Section 11(h) of the Export Administration Act ² and Section 766.25 of the Export Administration Regulations,³ and based on a criminal conviction of violating Section 38 of the Arms Export Control Act (22 U.S.C. 2778 (2012)) (“AECA”).

¹ 78 FR 76103 (Dec. 16, 2013).

² 50 U.S.C. 4601-4623 (Supp. III 2015) (available at http://uscode.house.gov). Since August 21, 2001, the Act has been in lapse and the President, through Executive Order 13222 of August 17, 2001 (3 CFR 2001 Comp. 783 (2002)), which has been extended by successive Presidential Notices, the most recent being that of August 7, 2015 (80 FR 48,233 (Aug. 11, 2015)), has continued the Regulations in effect under the International Emergency Economic Powers Act (50 U.S.C. 1701, et seq. (2012)).

³ The Regulations are currently codified in the Code of Federal Regulations at 15 CFR parts 730-774 (2016).

Whereas, the December 6, 2013 Order identified Bernardo's address as “701 Fredericksburg Road, Mathews, NC 28105”;

Whereas, the Office of Export Enforcement, Bureau of Industry and Security, U.S. Department of Commerce (“Department”), has confirmed that the address is no longer correct, and that Bernardo's current address is “8930 Houston Ridge Road, Charlotte, NC 28277”; and

Whereas, as a result of the information the Department obtained regarding Bernardo's current address, the Department has requested that an order be issued amending the December 6, 2013 Order to reflect that new address for Bernardo;

Accordingly, it is hereby ordered that the December 6, 2013 Order denying all U.S. export privileges to Donald V. Bernando is amended by deleting the address “701 Fredericksburg Road, Mathews, NC 28105,” and by adding the address “8930 Houston Ridge Road, Charlotte, NC 28277”. In all other aspects, the December 6, 2013 Order remains in full force and effect.

This Order, which is effective immediately, shall be published in the Federal Register.
Dated: July 19, 2016.
Karen H. Nies-Vogel,
Director, Office of Exporter Services.

[FR Doc. 2016-17681 Filed 7-28-16; 8:45 am]

BILLING CODE P